INTERNATIONAL BOUNDARY AND WATER COMMISSION, UNITED STATES AND MEXICO

Notice of Availability of the Final Environmental Assessment and Finding of No Significant Impact for Management of Federal Grazing Leases at the Falcon Dam and Reservoir, Starr and Zapata Counties, Texas

AGENCY: United States Section, International Boundary and Water Commission, United States and Mexico (USIBWC).

ACTION: Notice of availability.

SUMMARY: The USIBWC hereby gives notice that the Final Environmental Assessment (EA) and Finding of No Significant Impact (FONSI) for Management of Federal Grazing Leases at the Falcon Dam and Reservoir, Starr and Zapata Counties, Texas is available.

ADDRESSES: The electronic version of the Final EA and FONSI is available at the USIBWC web page: https://www.ibwc.gov/reports-studies/.

FOR FURTHER INFORMATION CONTACT: Mark Howe, Cultural Resources Specialist, USIBWC, El Paso, Texas 79902. Telephone: (915) 832-4767, email: Mark.Howe@ibwc.gov.

SUPPLEMENTARY INFORMATION: The USIBWC is updating or eliminating active and inactive grazing leases in use for commercial, residential, or recreational purposes on federal land in the Falcon Project (i.e., Falcon Dam and Reservoir). Rights-of-way for the Falcon Project totaled 63,192 acres on the U.S. side of the Falcon Project as of 2000. This project will assist USIBWC in determining if grazing leases should be allowed or discontinued and/or whether land management alternatives should be established in lieu of grazing.

The grazing lease program has continued for areas along the Falcon Reservoir that were originally ranches and farms before the land was acquired by the Federal Government pursuant to the Water Treaty of 1944 between the U.S. and Mexico, with construction of the Falcon Project completed on October 19, 1953. The grazing lease program assured those areas not under water or flooded and owned by the Federal Government would be economically used as they were in the past by the local community. Initially leases allowed for agricultural uses in addition to grazing, but agricultural activities and any clearing of leased lands were later restricted to reduce potential impacts on cultural resources in accordance with National Historic Preservation Act requirements. Active leases currently only allow grazing activities.

Grazing leases, licenses, and permits consist of any written permit or other legal document for an individual, corporation, etc., to use and improve land owned by the U.S. Government under the jurisdiction of the USIBWC at Falcon Reservoir. In the past, 22,270.57 acres of land were under 159 active grazing leases originally issued in 1956. As of 2020, there were 117 active grazing leases with many that are still held by the descendants of the original permittees and/or stakeholders.

The purpose for the Proposed Action is to successfully manage Federal land in the Falcon Project. Federal lands associated with the Falcon Project have been utilized by the public for various activities, including grazing leases, since the Falcon Project was established. However, the economic value of these leases and the challenges to successful land management require a reevaluation of the grazing lease program. The need is to implement land management alternatives to grazing leases that address low grazing lease values, limited access by USIBWC to leased lands, and unauthorized activities on leased lands.

Pursuant to section 102(2)(c) of the National Environmental Policy Act (NEPA) of 1969; the Council on Environmental Quality Final Regulations, and the USIBWC Operational Procedures for Implementing Section 102 of NEPA, published in the Federal Register September 2, 1981, USIBWC developed a Draft EA in November 2023 that analyzed eight alternatives for modifying the grazing lease program at the Falcon Project, including the No Action Alternative. Alternative 1—No Action Alternative, is a requirement of the NEPA process and is included to provide a baseline against which the other alternatives can be evaluated. The action alternatives include: Alternative 2—Terminate Leases, Alternative 3—Change Rental Rates on Active Leases and Implement Improved Program Management, Alternative 4—Allow Hunting on Existing Grazing Leases, Alternative 5—Terminate Leases Not Directly Accessible from Public Rights-of-Way, Alternative 6—Negotiate Access Easements on Private Property for Existing Leases, Alternative 7—Amend Leases to Allow Vegetation Management, and Alternative 8—Form a Citizens' Committee to Provide Lease Management Support.

In May 2024, the USIBWC prepared a Final EA and FONSI and determined that one or any combination of Alternatives 2 through 8 could be implemented to manage the grazing lease program at the Falcon Project. Details of the implementation of alternatives to manage the grazing lease program would be determined by the USIBWC Realty Division. All active leases would not be terminated simultaneously. The entire lease program would not be terminated. Grazing Lease actions could include termination of any leases, change of rental rates on active leases, hunting on existing leases, terminate non-accessible leases, allow vegetation management, and form a citizen's committee.

Potential impacts on natural, cultural, and other resources were evaluated. A Finding of No Significant Impact for one or any combination of Alternatives 2 through 8 has been prepared and signed based on a review of the facts and analyses contained in the EA. An environmental impact statement will not be prepared unless additional information which may affect this decision is brought to our attention within 30 days from the date of this Notice.

Dated: July 11, 2024.
Jennifer Pena,
Chief Legal Counsel, International Boundary and Water Commission, United States Section.

[FR Doc. 2024-16113 Filed 7-22-24; 8:45 am]

BILLING CODE 7010-01-P